DEPARTMENT OF ENERGY

Federal Energy Regulatory Commission

[Docket No. ER00-1857-002, et al.]

Split Rock Energy LLC, et al.; Electric Rate and Corporate Filings

February 20, 2004.

The following filings have been made with the Commission. The filings are listed in ascending order within each docket classification.

1. Split Rock Energy LLC

[Docket No. ER00-1857-002]

Take notice that on February 17, 2004, Split Rock Energy LLC (Split Rock) tendered for filing its triennial review in compliance with the Commission's Order dated June 20, 2000, in Docket No. ER00-1857-000.

Comment Date: March 9, 2004.

2. Naniwa Energy LLC

[Docket No. ER01-457-002]

Take notice that on February 17, 2004, Naniwa Energy LLC (Naniwa) tendered for filing (1) an updated market power analysis, and (2) an amendment to its market-based rate tariff to adopt the Commission's new Market Behavior Rules.

Comment Date: March 9, 2004.

3. Wisconsin Electric Power Company

[Docket No. ER03-1313-002]

Take notice that on February 17, 2004, Wisconsin Electric Power Company (Wisconsin Electric) tendered its refund report in compliance with the Commission's December 17, 2003, Letter Order, which accepted Wisconsin Electric's September 8, 2003 (hereinafter, September 8 filing), revision to Exhibit B of First [sic] Revised Power Sales Agreement (hereinafter, Exhibit B) between Wisconsin Electric and Wisconsin Public Power, Inc. (hereinafter, WPPI), as amended by Wisconsin Electric's October 22, 2003, supplemental filing (hereinafter, Supplemental filing). Additionally, Wisconsin Electric tendered for filing an original and six copies of an errata to the revised Exhibit B accepted in the Commission's December 17, 2003, Letter Order.

Wisconsin Electric states that the purpose of the errata is to modify an inadvertent/incorrect rate schedule designation contained in the tariff sheets submitted along with the September 8 filing, as well as a related reference to same contained in the transmittal letters submitted along with Wisconsin Electric's September 8 and Supplemental filings. Wisconsin Electric requests that the Commission allow Exhibit B's November 7, 2003, effective date, which was established in the Commission's December 17, 2003, Letter Order, to remain undisturbed.

Comment Date: March 4, 2004.

4. PJM Interconnection L.L.C.

[Docket No. ER04-46-001

Take notice that on February 17, 2004, PJM Interconnection L.L.C. (PJM) submitted for filing a substitute interconnection service agreement (ISA) among PJM, Motiva Enterprises, L.L.C., and Delmarva Power & Light Company d/b/a Connectiv Power Delivery pursuant to the Commission's Order dated November 24, 2003, in Docket No. ER04-46-000.

Comment Date: March 9, 2004.

5. PJM Interconnection, L.L.C.

[Docket No. ER04-302-001]

Take notice that on February 17, 2004, PJM Interconnection, L.L.C. (PJM) submitted for filing a substitute interconnection service agreement among PJM, U.S. General Services Administration, White Oak Federal Research Center, and Potomac Electric Power Company pursuant to the Commission's Order dated February 12, 2004, in Docket No. ER04-302-000. PJM states that copies of this filing were served upon persons designated on the official service list compiled by the Secretary in this proceeding and the parties to the agreements.

Comment Date: March 9, 2004.

6. Metropolitan Edison Company Pennsylvania Electric Company

[Docket No. ER04-372-001]

Take notice that on February 12, 2004, Metropolitan Edison Company and Pennsylvania Electric Company (collectively, MetEd/Penelec) tendered for filing a revised Original Sheet No. 1 to its proposed Market-Based Rate Power Sales Tariff (the Tariff), which was submitted on December 31, 2003. MetEd/Penelec also ask that the revised Original Sheet No. 1 be substituted for the one submitted on December 31, 2001, and that the Tariff, as so modified, be permitted to become effective on December 17, 2003.

Comment Date: March 4, 2004.

7. Arizona Public Service Company

[Docket No. ER04-560-000]

Take notice that on February 17, 2004, Arizona Public Service Company (APS) tendered a filing with the Commission a Notice of Cancellation of the transmission service agreement among Arizona Public Service Company, Southern California Edison Company, and United States of America, Bureau of Indian Affairs on Behalf of The Colorado River Indian Irrigation Project.

APS states that copies of this filing were supplied to Southern California Edison Company, and United States of America, Bureau of Indian Affairs on Behalf of The Colorado River Indian Irrigation Project, the Arizona Corporation Commission, and the California Public Utilities Commission.

Comment Date: March 9, 2004.

8. Virginia Electric and Power Company

[Docket No. ER04-561-000]

Take notice that on February 16, 2004, Virginia Electric and Power Company (Dominion Virginia Power) tendered for filing the following amended service agreements for Sempra Energy Trading Corp under the Company's Open Access Transmission Tariff, FERC Electric Tariff, Second Revised Volume No. 5, to Eligible Purchasers dated June 7, 2000.

1. Eighth Amended Service Agreement for Firm Point-To-Point Transmission Service designated Eighth Revised Service Agreement No. 253 under the Company's FERC Electric Tariff, Second Revised Volume No. 5;

2. Eighth Amended Service Agreement for Non-Firm Point-To-Point Transmission Service designated Eighth Revised Service Agreement No. 49 under the Company's FERC Electric Tariff, Second Revised Volume No. 5;

3. Ninth Amended Service Agreement for Firm Point-To-Point Transmission Service designated Ninth Revised Service Agreement No. 253 under the Company's FERC Electric Tariff, Second Revised Volume No. 5;

4. Ninth Amended Service Agreement for Non-Firm Point-To-Point Transmission Service designated Ninth Revised Service Agreement No. 49 under the Company's FERC Electric Tariff, Second Revised Volume No. 5.

Dominion Virginia Power respectfully requests an effective date of January 17, 2003.

Comment Date: March 9, 2004.

9. Michigan Electric Transmission Company LLC

[Docket No. ER04-562-000]

Take notice that on February 17, 2004, Michigan Electric Transmission Company LLC (METC) tendered for filing an Interconnection Facilities Agreement (IFA) between METC and Wolverine Power Supply Cooperative, Inc. METC requests an effective date of IFA of January 21, 2004.

Comment Date: March 9, 2004.

10. Southern Company Services, Inc.

[Docket No. ER04-563-000]

Take notice that on February 17, 2004, Southern Company Services, Inc., (SCS) on behalf of Alabama Power Company, Georgia Power Company, Gulf Power Company, Mississippi Power Company, and Savannah Electric and Power Company (collectively Southern Companies), submitted for filing one long-term firm transmission service agreement under the Open Access Transmission Tariff of Southern Companies (FERC Electric Tariff, Fourth Revised Volume No. 5) (Tariff) between Calpine Energy Services, LP and Southern Companies. The agreement is designated Service Agreement No. 466 under Southern Companies' Tariff.

Comment Date: March 9, 2004.

11. Wayne White Counties Electric Cooperative

[Docket No. ER04-564-000]

Take notice that on February 17, 2004, Wayne-White Counties Electric Cooperative (Wayne-White) tendered for filing two proposed rate changes to its Rate Schedule FERC No. 2, the Operations Agreement Between Wayne-White Counties Electric Cooperative and the City of Fairfield, Illinois (Fairfield). The first change reflects an agreed-upon alteration of the capacity charge billing determinant that was made on January 1, 2001, and which had the effect of reducing charges to Fairfield. The second change is a rate increase with a proposed effective date of January 1, 2004, that would increase revenues from jurisdictional sales and service by $656,786 based on the 12-month period ending December 31, 2003.

Wayne-White states that a copy of the filing has been served upon the City of Fairfield.

Comment Date: March 9, 2004.

12. Southern Company Services, Inc..

[Docket No. ER04-565-000]

Take notice that on February 17, 2004, Southern Electric Generating Company (SEGCO), Alabama Power Company (Alabama), and Georgia Power Company (Georgia) tendered for filing with the Commission an Amendment to the Power Contract Between SEGCO, Alabama, and Georgia (FERC Rate Schedule SEGCO No. 1) (Power Contract). The purpose of the Amendment is to revise the Power Contract to specifically address the parties' responsibilities regarding regulated emissions allowances (e.g., Sulfur Dioxide (SO2) and Nitrous Oxide (NOX) emissions allowances).

Comment Date: March 9, 2004.

13. Alabama Electric Marketing, LLC

[Docket No. ER04-570-000]

Take notice that on January 5, 2004, Alabama Electric Marketing, LLC (AEM) submitted for filing to the Commission revisions to its Rate Schedule FERC No. 1 including conforming provisions to the Commission's policy on affiliate transactions and reassignment of transmission.

Comment Date: February 27, 2004.

14. International Transmission Company

[Docket No. ES04-14-000]

Take notice that on February 13, 2004, International Transmission Company, (International Transmission) tendered for filing an application seeking authority to issue securities in the amount of $50 million, as more fully described in the application. International Transmission has requested an exemption from the Commission's competitive bidding and negotiated placement requirements. International Transmission has further requested the Commission to issue an order no later than March 31, 2004.

Comment Date: March 5, 2004.

15. Morgan Energy Center, LLC

[Docket Nos. QF01-84-001 and EL04-83-000]

Take notice that on February 17, 2004, Morgan Energy Center, LLC (Applicant) tendered for filing a petition for limited waiver of the Commission's efficiency standard for a topping-cycle cogeneration facility.

Comment Date: March 9, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-422 Filed 2-27-04; 8:45 am]

BILLING CODE 6717-01-P